COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products to the Procurement List that will be furnished by a nonprofit agency employing persons who are blind or have other severe disabilities, and deletes a service previously furnished by such agency.

DATES: Comments must be received on or before: January 20, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed additions, the entities of the Federal Government identified in this notice will be required to procure the products listed below from a nonprofit agency employing persons who are blind or have other severe disabilities.

The following products are proposed for addition to the Procurement List for production by the nonprofit agency listed:

Products

NSN(s)—Product Names:

6135-01-447-0950—Battery, Non-Rechargeable, AA, 1.5V, Alkaline, NEDA 15A, PG/4

6135-01-446-8307—Battery, Non-Rechargeable, C, 1.5V, Alkaline, NEDA 14A, PG/4

6135-01-446-8308—Battery, Non-Rechargeable, AAA, 1.5V, Alkaline, NEDA 24A, PG/4

Mandatory Source of Supply: Eastern Carolina Vocational Center, Inc., Greenville, NC

Mandatory for: Total Government Requirement

Contracting Activity: Federal Acquisition Service, GSA/FSS Greater Southwest Acquisition Ctr (7FCO)

Distribution: A-List

Deletion

The following service is proposed for deletion from the Procurement List:

Service

Service Type: Custodial and Grounds Maintenance Service

Mandatory for: FSS Depot, 400 Edwards Avenue, Harahan, LA

Mandatory Source of Supply: Louisiana Industries for the Disabled, Inc., Baton Rouge, LA

Contracting Activity: Public Buildings Service, Building Services Team

Amy B. Jensen,
Director, Business Operations.

[FR Doc. 2018-27683 Filed 12-20-18; 8:45 am]

BILLING CODE 6353-01-P